FARM CREDIT ADMINISTRATION

Privacy Act of 1974; System of Records

AGENCY: Farm Credit Administration.

ACTION: Notice of a modified system of records.

SUMMARY: Pursuant to the provisions of the Privacy Act of 1974, as amended, notice is hereby given that the Farm Credit Administration (FCA or Agency) is amending an existing system of records, FCA-15—Employee Training—FCA.

DATES: You may send written comments on or before August 31, 2020. FCA filed an amended System Report with Congress and the Office of Management and Budget on June 8, 2020. This notice will become effective without further publication on September 9, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records.

The Employee Training—FCA system is used to track an employee's professional training. The Agency is updating the notice to expand the system purpose to include training provided to contractors and Farm Credit System Insurance Corporation (FCSIC) employees, and to update the categories of individuals and categories of records to align with the modified purpose. Additionally, FCA is making administrative updates and non-substantive changes to conform to the SORN template requirements prescribed in the Office of Management and Budget (OMB) Circular No. A-108. The substantive changes and modifications to the currently published version of FCA-15—Employee Training—FCA include:

1. Updating the name of the system to reflect the expanded purpose—FCA-15—General Training Records—FCA.

2. Identifying the records in the system as unclassified.

3. Updating the system location to reflect the system's current location.

4. Updating the system managers to reflect the system's current owner.

5. Expanding the system purpose to include FCA-provided training for FCSIC employees and contractors.

6. Updating the categories of records and categories of individuals to ensure they are consistent with the intended purpose.

7. Expanding the record source categories to include contractors.

8. Expanding and clarifying how records may be stored and retrieved.

9. Revising the retention and disposal section to reflect updated guidance from the National Archives and Records Administration.

10. Revising the safeguards section to reflect updated cybersecurity guidance and practices.

Additionally, non-substantive changes have been made to the notice to align with the latest guidance from OMB.

The amended system of records is: FCA-15—General Training Records—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-15—General Training Records—FCA.

Security Classification:

Unclassified.

System Location:

Office of Agency Services, Farm Credit Administration, 1501 Farm Credit Drive, McLean, VA 22102-5090.

System Manager:

Director, Office of Agency Services, Farm Credit Administration, 1501 Farm Credit Drive, McLean, VA 22102-5090.

Authority for Maintenance of the System:

12 U.S.C. 2243, 2252.

Purposes of the System:

FCA uses information in this system of records to document and track (a) training provided by FCA to employees and contractors; and (b) external professional training and education provided to FCA and FCSIC employees while employed by the Agency. The system provides FCA with a means to track the training or education provided, identify trends and needs, monitor and track the expenditure on training and education programs and related travel, schedule training classes and programs, schedule instructors, assess the effectiveness of training, identify patterns, respond to requests for information related to the training of FCA and FCSIC employees and contractors, and facilitate the compilation of statistical information about training.

Categories of Individuals Covered by the System:

Current and former FCA and FCSIC employees, interns, and contractors.

Categories of Records in the System:

This system contains training and education information for FCA and FCSIC employees and interns while employed by FCA and FCSIC and training records for FCA-provided training to contractors. Records include: (a) Name, title or position, and business contact information including phone number, office location and number, email address and telephone number; (b) documentation related to training and education including registration forms, course rosters, sign-in sheets, follow-up surveys, and course and instructor critiques; (c) instructor lists and schedules; (d) payment records, including travel, per diem, and related expenditures; and (e) educational records for FCA, FCSIC, and contractor employees, including schools of attendance, courses completed or in which enrolled, dates of attendance, tuition and expenses, and related per diem and travel expenses.

Record Source Categories:

FCA and FCSIC employee, intern, or contractor that is the subject of the record and the training and education institution(s).

Routine Uses of Records Maintained in the System, Including Categories of Users and Purposes of Such Uses:

See the “General Statement of Routine Uses” (64FR 8175).

Disclosure to consumer reporting agencies:

None.

Policies and Practices for Storage of Records:

Records are maintained in files folders and electronically in a computerized database.

Policies and Practices for Retrieval of Records:

We retrieve records by name, email address, or by some combination thereof.

Policies and Procedures for Retention and Disposal of Records:

Records are retained in accordance with the National Archives and Records Administration's General Records Schedule requirements, and with the FCA Comprehensive Records Schedule.

Administrative, Technical, and Physical Safeguards:

FCA implements multiple layers of security to ensure access to records is limited to those with a need-to-know in support of their official duties. Paper records are physically safeguarded in a secured environment using locked file rooms, file cabinets, or locked offices and other physical safeguards. Computerized records are safeguarded through use of user roles, passwords, firewalls, encryption, and other information technology security measures.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875.

Vol. 70, No. 183/Thursday, September 22, 2005, page 55621.

Dated: July 28, 2020.
Dale Aultman,
Secretary, Farm Credit Administration Board.

[FR Doc. 2020-16617 Filed 7-30-20; 8:45 am]

BILLING CODE 6705-01-P